DEPARTMENT OF AGRICULTURE

Forest Service

Opal Creek Scenic Recreation Area (SRA) Advisory Council

AGENCY: Forest Service USDA Forest Service

ACTION: Notice of meeting.

SUMMARY: An Opal Creek Scenic Recreation Area Advisory Council meeting will convene in Stayton, Oregon on Monday, July 15, 2002. The meeting is scheduled to begin at 6:00 p.m., and will conclude at approximately 8:30 p.m. The meeting will be held in the South Room of the Stayton Community Center located on 400 West Virginia Street in Stayton, Oregon.

The Opal Creek Wilderness and Opal Creek Scenic Recreation Area Act of 1996 (Opal Creek Act) (Pub. L. 104-208) directed the Secretary of Agriculture to establish the Opal Creek Scenic Recreation Area Advisory Council. The Advisory Council is comprised of thirteen members representing state, county and city governments, and representatives of various organizations, which include mining industry, environmental organizations, inholders in Opal Creek Scenic Recreation Area, economic development, Indian tribes, adjacent landowners and recreation interests. The council provides advice to the Secretary of Agriculture on preparation of a comprehensive Opal Creek Management Plan for the SRA, and consults on a periodic and regular basis on the management of the area. Tentative agenda items include information sharing on the following topics:

Discussion of the decision and rationale for the Opal Creek SRA Management Plan Environmental Analysis;

Discussion on future transition of the Council membership in accordance with provisions of the Council Charter;

Discussion of future topics and a tentative schedule for the Council meetings;

A direct public comment period is tentatively scheduled to begin at 8:00 p.m. Time allotted for individual presentations will be limited to 3 minutes. Written comments are encouraged, particularly if the material cannot be presented within the time limits of the comment period. Written comments may be submitted prior to the July 15 meeting by sending them to Designated Federal Official Stephanie Phillips at the address given below.

FOR FURTHER INFORMATION CONTACT: For more information regarding this meeting, contact Designated Federal Official Stephanie Phillips; Willamette National Forest, Detroit Ranger District, HC 73 Box 320, Mill City, OR 97360; (503) 854-3366.

Dated: June 27, 2002.
Y. Robert Iwamoto,
Acting Forest Supervisor.

Disclaimer: This meeting notice is being published less than 15 days prior to the meeting due to the urgency of presenting the Management Plan decision and completing the appeal processes in order to allow the State of Oregon to move ahead with preparing an Economic Development Plan and grant requests as provided in paragraphs (i)(1) and (i)(2) of Public Law 104-208. This late notice is authorized under 41 CFR 1016.1015(b)(2).

[FR Doc. 02-16699 Filed 7-2-02; 8:45 am]

BILLING CODE 3410-11-M